DEPARTMENT OF HEALTH AND HUMAN SERVICES

Administration for Children and Families

Office of Community Services: Notice of Correction for the CCF Targeted Capacity Building Program Announcement

AGENCY: Office of Community Services, ACF, DHHS.

ACTION: Notice of correction.

Funding Opportunity Title: Targeted Capacity Building Program.

Funding Opportunity Number: HHS-2005-ACF-OCS-IJ-0036.

SUMMARY: This notice is to inform interested parties of corrections made to the CCF Targeted Capacity Building Program published on Friday, April 29, 2005. The following corrections should be noted:

Under IV.6 Other Submission Requirements, the correct address to mail and hand deliver applications is: U.S. Department of Health and Human Services (HHS), Attention: Eduardo Hernandez, Administration for Children and Families Office of Community Services, Operations Center, Compassion Capital Fund Targeted Capacity Building Program, 1515 Wilson Boulevard, Suite 100, Arlington, Virginia 22209, Phone: 1-800-281-9519, E-mail: OCS@lcgnet.com.

The only changes to the CCF Targeted Capacity Building Program Announcement are explicitly stated in this Notice of Correction. All applications must still be sent on or before the deadline date of May 31, 2005.

FOR FURTHER INFORMATION CONTACT: The OCS Grants Operations Center at the Above Phone Number or Address.

Dated: May 9, 2005.
Josephine B. Robinson,
Director, Office of Community Services.

[FR Doc. 05-9693 Filed 5-13-05; 8:45 am]

BILLING CODE 4184-01-P